FEDERAL COMMUNICATIONS COMMISSION

47 CFR Part 25

[IB Docket Nos. 17-95 and 18-315; DA 25-1045; FR ID 322435]

Space Bureau Seeks To Refresh the Record on Proposed Rules To Permit the Use of Additional Frequency Bands for NGSO Satellites To Communicate With Earth Stations in Motion

AGENCY: Federal Communications Commission.

ACTION: Proposed rule.

SUMMARY: In this document, the Space Bureau seeks to refresh the record on proposed rules to permit the use of additional frequency bands for non-geostationary orbit (“NGSO”) Fixed Satellite Service (“FSS”) satellites to communicate with Earth Stations in Motion (“ESIMs”).

DATES: Comments are due January 21, 2026.

Reply Comments are due February 5, 2026.

ADDRESSES: You may submit comments, identified by IB Docket Nos. 17-95 and 18-315, by any of by any of the following methods:

Federal Communications Commission's Website: https://apps.fcc.gov/ecfs/. Follow the instructions for submitting comments. the following methods:

People with Disabilities. Contact the FCC to request reasonable accommodations (accessible format documents, sign language interpreters, CART, etc.) by email: fcc504@fcc.gov or phone: 202-418-0530 (voice) or TTY: 202-418-0432.

For detailed instructions for submitting comments and additional information on the rulemaking process, see the SUPPLEMENTARY INFORMATION section of this document.

FOR FURTHER INFORMATION CONTACT: Gregory Coutros, (202) 418-2351, Gregory.Coutros@fcc.gov or Carolyn Roddy, (202) 418-0960, Carolyn.Roddy@fcc.gov.

SUPPLEMENTARY INFORMATION: This is a summary of the Commission's Public Notice, DA 25-1045, released December 10, 2025 by the Commission's Space Bureau. The document is available for public inspection online at https://docs.fcc.gov/public/attachments/DA-25-1045A1.pdf.

Filing Requirements

Interested parties may file comments and reply comments on or before the dates indicated in the DATES section above.

☐ Electronic Filers. Comments may be filed electronically using the internet by accessing the Commission's Electronic Comment Filing System (ECFS): http://apps.fcc.gov/ ecfs.

☐ Paper Filers. Parties who file by paper must include an original and one copy of each filing.

○ Filings can be sent by hand or messenger delivery, by commercial courier, or by the U.S. Postal Service. All filings must be addressed to the Commission's Secretary, Office of the Secretary, Federal Communications Commission.

○ Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

○ Commercial courier deliveries (any deliveries not by the U.S. Postal Service) must be sent to 9050 Junction Drive, Annapolis Junction, MD 20701.

○ Filings sent by U.S. Postal Service First-Class Mail, Priority Mail, and Priority Mail Express, must be sent to 45 L Street NE, Washington, DC 20554.

• People with Disabilities. To request materials in accessible formats for people with disabilities (Braille, large print, electronic files, audio format), send an email to fcc504@fcc.gov or call the Consumer & Governmental Affairs Bureau at 202-418-0530.

Ex Parte Presentations

This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with 47 CFR 1.1206(b). In proceedings governed by 47 CFR 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Regulatory Flexibility Analysis

The NGSO ESIM FNPRM included an Initial Regulatory Flexibility Analysis (“IRFA”) pursuant to 5 U.S.C. 603, exploring the potential impact on small entities of the Commission's proposals. We invite parties to file comments on the IRFA in light of this request to refresh the record.

Providing Accountability Through Transparency Act

Consistent with the Providing Accountability Through Transparency Act, Public Law 118-9, a summary of this document will be available on https://www.fcc.gov/proposed-rulemakings.

Synopsis

In the document, the Space Bureau seeks to refresh the record on proposed rules to permit the use of additional frequency bands for non-geostationary orbit (“NGSO”) Fixed Satellite Service (“FSS”) satellites to communicate with Earth Stations in Motion (“ESIMs”). The Commission sought comment in 2020 on proposals that would allow NGSO FSS systems to communicate with ESIMs in the 28.35-28.6 GHz band. The comment period closed over five years ago. To ensure that the Commission has the benefit of current information, including any developments relating to these issues since the release of the underlying NGSO ESIM FNPRM, we invite interested parties to update the record as discussed below.

Background. In 2018, the Commission adopted rules governing communications for ESIMs with geostationary orbit (“GSO”) satellites. At that time, the Commission also sought comment on allowing ESIMs to operate in all the frequency bands in which earth stations at fixed locations operating in GSO fixed satellite service (“FSS”) satellite networks can be blanket-licensed. Later that same year, the Commission adopted a Notice of Proposed Rulemaking (NPRM) that sought comment on expanding the Commission's ESIM rules to cover communications with NGSO FSS satellites.

In 2020, the Commission adopted rules that allowed for NGSO FSS operations of ESIMs in certain bands and opened up additional frequency bands for GSO FSS ESIM use. At that time, the Commission permitted NGSO FSS ESIMs in the 28.4-28.6 GHz subject to compliance with future determinations but deferred consideration on permitting NGSO FSS ESIMs in the 28.35-28.4 GHz band, and sought comment to further address issues raised by commenters in the record and to allow for additional study of out-of-band emissions issues.

Since the Commission last sought comment on permitting NGSO FSS ESIMs in the entirety of the 28.35-28.6 GHz band, multiple parties have met with the Commission staff on this matter. For instance, Verizon met with Commission staff in 2023 to discuss its concerns related to out-of-band emissions limits and the potential interference to terrestrial services in the 27.5-28.35 GHz adjacent band and a proposal to harmonize part 25 out-of-band emissions limits for NGSO ESIMs with out-of-band emission limits for terrestrial wireless operations, given the terrestrial operations in the 27.5-28.35 GHz band.

Because the NGSO ESIM FNPRM comment period closed more than five years ago, and in recognition of the subsequent changes to the terrestrial and ESIM environments during that period, we seek to refresh the record to ensure the record in this proceeding is current and complete.

Request for Additional Comment. Accordingly, the Space Bureau invites all stakeholders to update the record after reviewing the specific proposals, underlying analysis, and questions contained in the NGSO ESIM FNPRM, as well as the existing record in this proceeding. The NGSO ESIM FNPRM presented a number of questions related to the current out of band emissions limits in § 25.202(f) and whether they would be sufficient to protect Upper Microwave Flexible Use Service (UMFUS) operations in the 27.5-28.35 GHz band. In addition, the NGSO ESIM FNPRM sought comment on what level of interference generated by out-of-band emissions from ESIM operations with NGSO space stations above 28.35 GHz would be acceptable for UMFUS receivers operating below 28.35 GHz without unduly constraining ESIM operations above 28.35 GHz. The NGSO ESIM FNPRM also sought comment on other issues related to harmful interference and whether UMFUS operators are developing any equipment with characteristics that make them less susceptible to adjacent band users. In addition to these questions, the NGSO ESIM FNPRM sought comment on issues related to guard bands, minimum elevation angle, aggregation interference, and how to specify out-of-band emissions limits.

We encourage interested parties to submit new or additional relevant information since the close of the previous comment period related to these and other questions laid out in the NGSO ESIM FNPRM. In addition, commenters are encouraged to submit new or additional relevant information about the present state of the UMFUS and ESIM environments, including the current or anticipated uses of these services. In addition, commenters are encouraged to provide any information gained since the close of the previous comment period related to the intensity of use of ESIMs in the 28.35-28.6 GHz band by both GSO and NGSO operators, as permitted. We also encourage commenters to provide any additional or new studies since the close of the previous comment period demonstrating protection criteria for ESIMs in the 28.35-28.6 GHz band that would protect adjacent band operations in the 27.5-28.35 GHz band.

Federal Communications Commission.
Kerry Murray,
Deputy Chief and Chief of Staff, Space Bureau.

[FR Doc. 2025-23638 Filed 12-19-25; 8:45 am]

BILLING CODE 6712-01-P